ENVIRONMENTAL PROTECTION AGENCY

[EPA-HQ-OAR-2022-0606; FRL-10105-03-OAR]

Notice of Data Availability Relevant to Management of Regulated Substances Under the American Innovation and Manufacturing Act of 2020

AGENCY: Environmental Protection Agency (EPA).

ACTION: Notice of data availability.

SUMMARY: This Notice of Data Availability (NODA) is to alert stakeholders of information from the U.S. Environmental Protection Agency (EPA) regarding the United States' hydrofluorocarbon reclamation market and to solicit stakeholder input. The Agency is making available a draft report, Analysis of the U.S. Hydrofluorocarbon Reclamation Market: Stakeholders, Drivers, and Practices, which analyzes the United States' hydrofluorocarbon reclamation market and describes the reclamation process, factors affecting costs of reclamation, incentives, and barriers to refrigerant reclamation. The Agency is providing this information in preparation for an upcoming regulatory action which EPA intends to propose under subsection (h) of the American Innovation and Manufacturing Act of 2020. The notice identifies possible data gaps and requests comment on areas where additional information could improve the Agency's information on the United States hydrofluorocarbon reclamation market and practices. The Agency is also providing notice of a stakeholder meeting to enable stakeholders to provide input as the Agency prepares to engage in rulemaking.

DATES: To ensure that comments can be accounted for in an upcoming proposed rule that EPA is considering, please submit comments to the Agency by November 7, 2022.

ADDRESSES: You may send comments, identified by Docket ID No. EPA-HQ-OAR-2022-0606, by any of the following methods:

• Federal eRulemaking Portal: https://www.regulations.gov/ (our preferred method). Follow the online instructions for submitting comments.

• Mail: U.S. Environmental Protection Agency, EPA Docket Center, Air and Radiation Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: Annie Kee, U.S. Environmental Protection Agency, Stratospheric Protection Division, telephone number: 202-564-2056; or email address: kee.annie@epa.gov. You may also visit EPA's website at https://www.epa.gov/climate-hfcs-reduction for further information.

SUPPLEMENTARY INFORMATION:

I. Public Participation

The U.S. Environmental Protection Agency (EPA) is interested in receiving comments on the draft report developed in support of this notice of data availability (NODA) to inform the Agency's regulatory process for an upcoming proposed rule that EPA is considering. Submit your comments, identified by Docket ID No. EPA-HQ-OAR-2022-0606, at https://www.regulations.gov (our preferred method), or the other methods identified in the ADDRESSES section. You may find the following suggestions helpful for preparing your comments: Explain your views as clearly as possible; describe any assumptions that you used; provide any technical information or data you used that support your views; provide specific examples to illustrate your concerns; offer alternatives; and make sure to submit your comments by the comment period deadline identified. Please provide any published studies or raw data supporting your position. Confidential Business Information (CBI) should not be submitted through www.regulations.gov. Please work with the person listed in the FOR FURTHER INFORMATION CONTACT section if submitting a comment containing CBI.

II. Background

The Agency is providing information in preparation for an upcoming regulatory action under the American Innovation and Manufacturing Act of 2020 (AIM Act or Act), codified at 42 U.S.C. 7675. Among other provisions, subsection (h) of the Act authorizes EPA to establish certain requirements for management of certain hydrofluorocarbons (HFCs) and their substitutes. Specifically, subsection (h)(1) of the Act directs the Agency to establish regulations to control, where appropriate, practices, processes, or activities regarding the servicing, repair, disposal, or installation of equipment, for purposes of maximizing the reclamation and minimizing the release of certain HFCs from equipment and ensuring the safety of technicians and consumers. Subsection (h) also provides that “[i]n carrying out this section, the Administrator shall consider the use of authority available to the Administrator under this section to increase opportunities for the reclaiming of regulated substances used as refrigerants” (subsection (h)(2)(A)) and authorizes EPA in promulgating regulations carrying out subsection (h) of the AIM Act to “coordinate those regulations with any other [EPA] regulations” involving “the same or a similar practice, process, or activity regarding the servicing, repair, disposal, or installation of equipment,” or reclaiming (subsection (h)(3)). Such regulations could potentially include the refrigerant management program established under title VI of the Clean Air Act.

EPA is seeking comment on the accuracy of the data and analyses presented in the draft report in the docket to this notice regarding the United States' hydrofluorocarbon refrigerant reclamation market and welcomes input on those data and potential data gaps. Readers should note that EPA will only consider comments about the draft report provided in the docket, and the Agency is not soliciting comments on any other topic through this notice. EPA plans to undergo a future notice and comment rulemaking process, which will be a separate action, that will outline the Agency's approach to the management of HFCs and their substitutes under the AIM Act. EPA will solicit public feedback on these issues through that separate notice and comment process, and therefore is not accepting public comment on these matters through this notice. Public comments that pertain to issues beyond the scope of this notice will not be considered as the Agency updates the draft report. To the extent such comments are relevant to the previously referenced future and separate rulemaking, those comments should be resubmitted through that future rulemaking process in order to ensure that they are duly considered by the Agency in that process. Use of AIM Act terminology in this notice is for communication purposes only and should not be viewed as indications of how EPA will define these terms in any future rulemaking action. EPA intends to provide more information on the status of rulemakings and stakeholder interaction, including opportunities for submitting public comment, on the Agency's website: https://www.epa.gov/climate-hfcs-reduction. EPA will hold a virtual stakeholder meeting for input on the draft report and an upcoming regulatory action which EPA intends to propose under subsection (h) of the American Innovation and Manufacturing Act of 2020. Information concerning this meeting will be available on the Agency's website: https://www.epa.gov/climate-hfcs-reduction.

III. What information is available?

This notice provides for public review and comment on the draft report, Analysis of the U.S. Hydrofluorocarbon Reclamation Market: Stakeholders, Drivers, and Practices, that is available in the docket. The draft report describes EPA's current understanding of the U.S. HFC refrigerant reclamation market and provides information on the reclamation process, factors affecting costs of reclamation, incentives, and barriers to reclamation. EPA requests comment on the information and analysis in the draft report, and information on potential data gaps.

The report provides background information on the reclamation industry in support of an upcoming proposed rule that EPA is considering under subsection (h) of the AIM Act to establish regulations to control, where appropriate, practices, processes, or activities regarding the servicing, repair, disposal, or installation of equipment, for purposes of maximizing the reclamation and minimizing the release of certain HFCs from equipment and ensuring the safety of technicians and consumers. The draft report provides information on the following:

• Background information on the refrigerant reclamation of HFCs, federal and state statutory and regulatory provisions

• Subsectors and applications using refrigerants

• Historical reclamation market in the U.S., the reclamation process, factors affecting costs of reclamation, and incentives for refrigerant reclamation

• Safety of technicians and consumers

• Barriers and key challenges to refrigerant reclamation.

IV. What is EPA taking comment on and what supporting documentation do I need to include in my comments?

EPA is accepting comments on possible data gaps and areas where additional information could improve the Agency's information outlined in this notice and contained in the draft report, Analysis of the U.S. Hydrofluorocarbon Reclamation Market: Stakeholders, Drivers, and Practices. Specifically, EPA requests comment on topics contained in the draft report, including but not limited to:

• Current reclamation process, practices, and technologies

• Supply chain of reclaimed refrigerants (e.g., recovery, collection, stockpiling, destruction)

• Costs of reclamation (e.g., price of refrigerants, transport, storage, operating costs of reclamation systems)

• Incentives for reclamation

• Safety of technicians and consumers (e.g., outreach, best practices)

• Barriers and challenges to reclamation (e.g., contamination and accommodation of blends and cylinders with mixed refrigerants, market demand).

EPA is also interested in responses to any of the following questions related to this draft report, including but not limited to:

• Current recovery and reclamation practices, technologies, and trends:

○ What are some major changes and/or trends in reclamation technology and equipment over the past 25 years?

○ What are the current trends for the price of refrigerants and how can this affect reclamation and recovery?

○ How do reclaimers address waste oils, impurities, etc.?

○ What type of equipment do reclaimers use (e.g., off-the-shelf reclamation equipment, modified off-the-shelf reclamation equipment, custom-built equipment)?

○ What are the current practices for refrigerant recovery at equipment end-of-life?

• Supply chain:

○ What are the primary sources of recovered refrigerant (technicians, distributors, wholesalers, etc.)? Stationary vs. motor vehicle air conditioning systems?

○ Are Original Equipment Manufacturers (OEMs) purchasing reclaimed HFCs for initial equipment charge?

○ Besides refrigeration and air conditioning (e.g., fire suppression), are there other sectors where reclaimed or reprocessed HFCs are being used?

• Barriers and challenges to recovery and reclamation:

○ What are major barriers to increasing the amount of refrigerant recovered and reclaimed? For example, increasing the amount of reclaimed material re-entering the market or the increased use of reclaimed material in other sectors (i.e., beyond refrigeration and air conditioning)?

○ What are the losses of refrigerant during recovery and/or the reclamation process (e.g., chronic leaking) and what steps can be taken to minimize the losses (e.g., best practices, technologies)?

○ How are multi-component refrigerant blends handled during recovery and/or the reclamation process?

EPA requests that commenters provide corrected information or suggested language on the draft report, along with the rationale as to why the existing text was incorrect or incomplete. In addition, please provide any published studies or raw data supporting your comments.

Cynthia A. Newberg,
Director, Stratospheric Protection Division.

[FR Doc. 2022-22458 Filed 10-14-22; 8:45 am]

BILLING CODE 6560-50-P